DEPARTMENT OF HEALTH AND HUMAN SERVICES

National Institutes of Health

National Institute of Neurological Disorders and Stroke Amended; Notice of Meeting

Notice is hereby given of a change in the meeting of the National Institute of Neurological Disorders and Stroke Special Emphasis Panel, August 2, 2011, 9 a.m. to August 2, 2011, 3 p.m., National Institutes of Health, Neuroscience Center, 6001 Executive Boulevard, Rockville, MD 20852 which was published in the Federal Register on July 20, 2011, 76FFRN43333-43334.

The meeting has been rescheduled for August 23, 2011. The time and meeting location remain the same. The meeting is closed to the public.

Dated: July 29, 2011.
Jennifer S. Spaeth,
Director, Office of Federal Advisory Committee Policy.

[FR Doc. 2011-19813 Filed 8-3-11; 8:45 am]

BILLING CODE 4140-01-P